DEPARTMENT OF THE INTERIOR

National Park Service

[NPS-WASO-NRNHL-15966; PPWOCRADI0, PCU00RP14.R50000]

National Register of Historic Places; Notification of Pending Nominations and Related Actions

Nominations for the following properties being considered for listing or related actions in the National Register were received by the National Park Service before May 31, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by July 7, 2014. Before including your address, phone number, email address, or other personal identifying information in your comment, you should be aware that your entire comment—including your personal identifying information—may be made publicly available at any time. While you can ask us in your comment to withhold your personal identifying information from public review, we cannot guarantee that we will be able to do so.

Dated: June 3, 2014.
Alexandra Lord,
Acting Chief, National Register of Historic Places/National Historic Landmarks Program.

COLORADO

Routt County

Steamboat Springs Downtown Historic District, Lincoln Ave. roughly bounded by 5th to 11th Sts., Steamboat Springs, 14000387

DISTRICT OF COLUMBIA

District of Columbia

District of Columbia War Memorial, Independence Ave. between 17th & 23rd Sts. SW., Washington, 14000388

FLORIDA

Escambia County

United States Post Office and Court House, 100 N. Palafox St., Pensacola, 14000389

MINNESOTA

Hennepin County

Cameron Transfer and Storage Company Building, 756 N. 4th St., Minneapolis, 14000390

Lee, Arthur and Edith, House, 4600 Columbus Ave. S., Minneapolis, 14000391

Winona County

Laird, Norton Company Building, 125 W. 5th St., Winona, 14000392

MONTANA

Flathead County

Camas Creek Cutoff Road, Glacier National Park, West Glacier, 14000393

Missoula County

Milwaukee Road Railroad Substation No. 10, 5190 Primrose Dr., Missoula, 14000394

NEBRASKA

Harlan County

Alma City Auditorium and Sale Barn, 614 Main St., Alma, 14000395

Nemaha County

Auburn Historic District, Downtown Commercial District, Courthouse Sq. & Courthouse Ave., Auburn, 14000396

Saunders County

Kacirek—Woita General Store, 250 N. Elm St., Weston, 14000397

NEW YORK

Erie County

Sibley and Holmwood Candy Factory and Witkop and Holmes Headquarters, 149 & 145 Swan St., Buffalo, 14000398

New York County

West 114th Street Historic District, 204-246 & 215-277 W. 114th St., New York, 14000399

OREGON

Klamath County

Linkville Pioneer Cemetery, Jct. of Lexington Ave. & Upham St., Klamath Falls, 14000400

Yamhill County

99W Drive-in Theatre, 3110 Portland Rd., Newberg, 14000401

TEXAS

Bexar County

Voelcker Farmstead Historic District, (Farms and Ranches of Bexar County, Texas) Address Restricted, San Antonio, 14000402

Milam County

Pool, R.F. and Minta, House, 901 E. 8th St., Cameron, 14000403

Travis County

Perry, Edgar H., Jr., House, 801 Park Blvd., Austin, 14000404

VERMONT

Windsor County

Parker, Aaron, Jr. and Susan, Farm, 1715 Brook Rd., Cavendish, 14000405

[FR Doc. 2014-14307 Filed 6-18-14; 8:45 am]

BILLING CODE 4312-51-P